DEPARTMENT OF DEFENSE

Office of the Secretary

Charter Renewal of Department of Defense Federal Advisory Committees—Air University Board of Visitors

AGENCY: Department of Defense (DoD).

ACTION: Renewal of Federal advisory committee.

SUMMARY: The DoD is publishing this notice to announce that it is renewing the Air University Board of Victors (AU BoV).

FOR FURTHER INFORMATION CONTACT: Jim Freeman, Advisory Committee Management Officer for DoD, 703-692-5952.

SUPPLEMENTARY INFORMATION: The AU BoV is being renewed in accordance with chapter 10 of title 5, United States Code (U.S.C.) (commonly known as “the Federal Advisory Committee Act” or “FACA”) and 41 CFR 102-3.50(a). The charter and contact information for the AU BoV's Designated Federal Officer (DFO) are found at https://www.facadatabase.gov/FACA/apex/FACAPublicAgencyNavigation.

The AU BoV provides the Secretary of Defense and Deputy Secretary of Defense (“the DoD Appointing Authority”), through the Secretary of the Air Force, with independent advice and recommendations on matters pertaining to the Air University (AU) educational, doctrinal, and research policies and activities specifically on matters pertaining to (a) the progress of the educational programs and the support activities of the AU; (b) the published statement of purpose, institutional policies, and financial resources of the AU; and (c) the educational effectiveness quality of student learning, administrative and educational support services, and teaching, research, and public service of the AU.

The AU BoV is composed of no more than 15 members who shall recommend appropriate actions to the DoD Appointing Authority, through the Secretary of the Air Force, who may act upon the AU BoV's advice and recommendations in accordance with DoD policy and procedures.

Individual members are appointed by the DoD Appointing Authority in accordance with DoD policy and procedures, and shall serve a term of service of one-to-four years with annual renewals. The DoD Appointing Authority shall appoint one member of the AU BoV as Chair of the AU BoV, and that person, shall serve a term of service of one-to-two years with annual renewal. No member, unless approved according to DoD policy and procedures, may serve more than two consecutive terms of service on the AU BoV, or serve on more than two DoD Federal advisory committees at one time.

AU BoV members who are not full-time or permanent part-time Federal civilian officers or employees, or active-duty members of the Uniformed Services, are appointed as experts or consultants, pursuant to 5 U.S.C. 3109, to serve as special government employee members. AU BoV members who are full-time or permanent part-time Federal civilian officers or employees, or active-duty members of the Uniformed Services are appointed pursuant to 41 CFR 102-3.130(a), to serve as regular government employee members.

All AU BoV members are appointed to provide advice based on their best judgment without representing any particular point of view and in a manner that is free from conflict of interest. Except for reimbursement of official AU BoV-related travel and per diem, members serve without compensation.

The public or interested organizations may submit written statements about the AU BoV's mission and functions. Written statements may be submitted at any time or in response to the stated agenda of planned meeting of the AU BoV. All written statements shall be submitted to the DFO for the AU BoV, and this individual will ensure that the written statements are provided to the membership for their consideration.

Dated: June 10, 2024.
Aaron T. Siegel,
Alternate OSD Federal Register Liaison Officer, Department of Defense.

[FR Doc. 2024-13117 Filed 6-13-24; 8:45 am]

BILLING CODE 6001-FR-P